DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency (FEMA) is submitting a request for review and approval of a collection of information under the emergency processing procedures in Office of Management and Budget (OMB) regulation 5 CFR 1320.13. FEMA is requesting that this information collection be approved by May 12, 2003. The approval will authorize FEMA to use the collection through November 30, 2003. FEMA plans to follow this emergency request with a request for a 3-year approval. The request will be processed under OMB's normal clearance procedures in accordance with the provisions of OMB regulation 5 CFR 1320.10. To help us with the timely processing of the emergency and normal clearance submissions to OMB, FEMA invites the general public to comment on the proposed collection of information.

SUPPLEMENTARY INFORMATION: FEMA published an interim final rule implementing the Flood Mitigation Assistance (FMA) program in Vol. 62, No. 54 of the Federal Register, dated March 20, 1997. The FMA program is designed to award grants to States, and NFIP-participating communities and Indian tribal governments, so that measures are taken to reduce or eliminate the long-term risk of flood damage to buildings, manufactured homes, and other structures insurable under the National Flood Insurance Program (NFIP).

Collection of Information

Title: Flood Mitigation Assistance (eGrants) and Grant Supplemental Information.

Abstract: Information sought with this submission will comprise Phase I of the electronic, web-based application for Flood Mitigation Assistance (FMA) program grants through FEMA's eGrants system. The eGrants system is being developed to meet the intent of the eGovernment initiative, authorized by Pub. L. 106-107 passed on November 20, 1999. This initiative requires that all government agencies both streamline grant application processes and provide for the means to electronically create, review, and submit a grant application via the Internet.

The FMA eGrants application will not replace the FMA grants program paper-based collection currently under OMB control number 1660-0025. It is provided as an alternative method for grantees and subgrantees to use.

The FMA eGrants application includes the information necessary for FEMA to assess the financial needs of the applicants as well as the projected benefits to be obtained from the use of the grant funds. FEMA will also use the information to determine eligibility and whether the proposed use of such funds meets the requirements and intent of the NFIRA. FEMA will use the information to evaluate applications and make award decisions, monitor ongoing performance and manage the flow of federal funds, and to appropriately close out the grant award when all work is completed.

The State will use the subgrantee application for grant assistance to recommend to FEMA the use of limited grant funds. Subgrantees will be accountable to the grantee for any collection of information required under the laws and procedures established by that State or Indian tribal government, and will be responsible for providing proprietary information to the grantee on subgrants funded through the State or tribal government. A Tribe may apply as either a grantee or subgrantee, and will be required to meet the grant application, reporting and planning requirements of a State or local government depending on their applicant status.

Type of Information Collection: New collection.

Affected Public: State, local and Tribal governments.

Number of Respondents: 280—56 States and Territories × 4 subgrants per State = 224 + 56 States to review, coordinate and forward FMA grant applications to FEMA for approval.

Estimated Total Annual Burden Hours: 4,088.

Estimated Cost: The cost to States, Territories, Indian Tribal governments and local governments for the information collection is $97,621 ($23.88 hourly rate × 4,088 burden hours).

Comments

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Submit comments to OMB within 30 days of the date of this notice. To ensure that FEMA is fully aware of any comments or concerns that you share with OMB, please provide us with a copy of your comments. FEMA will continue to accept comments for 60 days from the date of this notice.

OMB Addressee

Interested persons should submit written comments to the Office of Management and Budget, Office of Information and Regulatory Affairs (Attention: Desk Officer for the Federal Emergency Management Agency, Emergency Preparedness and Response Directorate, Department of Homeland Security) 725 17th Street, NW., Washington, DC 20503.

FEMA Addressee

Interested persons should submit written comments to Muriel B. Anderson, Chief, Records Management Branch, Information Resources Management Division, Information Technology Services Directorate, Federal Emergency Management Agency, Emergency Preparedness and Response Directorate, Department of Homeland Security, 500 C Street, SW., Room 316, Washington, DC 20472.

FOR FURTHER INFORMATION CONTACT: Contact Ms. Anderson for copies of the proposed collection of information at telephone number (202) 646-2625, facsimile number (202) 646-3347, or e-mail address: muriel.anderson@fema.gov.

Dated: April 30, 2003.
Edward W. Kernan,
Director, Information Resources Management Division, Information Technology Services Directorate.

[FR Doc. 03-11107 Filed 5-5-03; 8:45 am]

BILLING CODE 6718-01-P